OFFICE OF THE UNITED STATES TRADE REPRESENTATIVE

Agency Information Collection Activities; Request for the Office of Management and Budget To Approve Renewal of the Collection of Information Titled `301 Exclusion Requests'

AGENCY: Office of the United States Trade Representative.

ACTION: 30-Day notice with a request for comments.

SUMMARY: The Office of the United States Trade Representative (USTR) is submitting a request to the Office of Management and Budget (OMB) to reinstate an expired information collection request (ICR) titled 301 Exclusion Requests under the Paperwork Reduction Act of 1995 (PRA) and its implementing regulations.

DATES: Submit comments no later than September 16, 2024.

ADDRESSES: Submit your comments on the information collection through https://www.reginfo.gov/public/do/PRAMain. Find this particular information collection titled 301 Exclusion Requests by selecting `Currently under Review-Open for Public Comments' or by using the search function. The OMB control number for this information collection is 0350-0015.

FOR FURTHER INFORMATION CONTACT: Assistant General Counsel Rachel Hasandras at 202.395.5725.

SUPPLEMENTARY INFORMATION:

A. Comments

Submit written comments and suggestions to OMB addressing one or more of the following four points:

(1) Whether the ICR is necessary for the proper performance of USTR's functions, including whether the information will have practical utility.

(2) The accuracy of USTR's estimate of the burden of the ICR, including the validity of the methodology and assumptions used.

(3) Ways to enhance the quality, utility and clarity of the ICR.

(4) Ways to minimize the burden of the ICR on those who are to respond, including through the use of appropriate automated, electronic, mechanical or other technological collection techniques or other forms of information technology.

B. Overview of This Information Collection

Title: 301 Exclusion Requests.

OMB Control Number: 0350-0015, which expired on January 31, 2023.

Form Number(s): 301 Exclusion Request/Response/Reply Form; Exclusion Extension Comment.

Description: Following a comprehensive review of the July 6, 2018, and the August 23, 2018 actions, as modified, in the Section 301 Investigation of China's Acts, Policies, and Practices Related to Technology Transfer, Intellectual Property, and Innovation, the President directed the U.S. Trade Representative to establish a process by which interested persons may request that particular machinery used in domestic manufacturing classified within a subheading under Chapters 84 and 85 of the of the Harmonized Tariff Schedule of the United States (HTSUS) be temporarily excluded from Section 301 tariffs (machinery exclusion process).

Consistent with the President's direction, on May 28, 2024, USTR published a notice announcing that the U.S. Trade Representative was establishing an exclusion process and requested comments on whether certain subheadings under Chapters 84 and 85 of the HTSUS should or should not be eligible for consideration of temporary exclusion. See 89 FR 46252.

The ICR is included as an annex to this notice.

Affected Public: U.S. stakeholders who want to request, or respond to a request, to exclude particular products from the additional duties on products from China.

Frequency of Submission: One submission per request, response, reply or comment.

Respondent Universe: U.S. stakeholders.

Reporting Burden:

Total Estimated Responses: 5,000 requests to exclude a particular product, 1,000 responses to a product exclusion request, and 750 replies to a response.

Total Estimated Annual Burden: USTR estimates that preparing and submitting a request to exclude a particular product will take approximately 90 minutes and will cost about $175 per submission. The total time burden for requests is 7,500 hours (5,000 requests × 90 minutes) and the estimated total cost is $875,000 (5,000 requests × $175 per submission).

USTR estimates that preparing and submitting a response to a product exclusion request will take approximately 45 minutes, and will cost about $100 per submission. The total time burden for responses is 750 hours (1,000 responses × 45 minutes) and the estimated total cost is $100,000 (1,000 responses × $100 per submission).

USTR estimates that preparing and submitting a reply will take approximately 45 minutes, and will cost about $100 per submission. The total time burden for replies is 563 hours (750 replies × 45 minutes) and the estimated total cost is $75,000 (750 replies × $100 per submission).

USTR estimates that it will take staff about 75 minutes to evaluate each request, response or reply or a total time burden of approximately 8,438 hours (6,750 requests/responses/replies × 75 minutes) at an estimated total cost of $813,000. The $813,000 total cost estimate includes the average annual salary plus benefits, for the federal employees and contractors expected to work on the exclusion process. USTR estimates that it will take approximately one year to complete the process.

Status: Pursuant to the PRA and its implementing regulations, USTR is submitting a request to OMB to renew approval of this ICR for three years.

C. Requirements for Submissions

You must submit written comments by the deadline set forth in this notice. Submit comments about the ICR, including the title 301 Exclusion Requests, to the Office of Information and Regulatory Affairs at OMB, at oira_submissions@omb.eop.gov, or 725 Seventeenth Street NW, Washington, DC 20503, Attention: USTR Desk Officer.

Juan Millan,
Acting General Counsel, Office of the United States Trade Representative.

BILLING CODE 3390-F4-P

[FR Doc. 2024-18190 Filed 8-14-24; 8:45 am]

BILLING CODE 3390-F4-C